DEPARTMENT OF ENERGY

Secretary of Energy Advisory Board, Small Modular Reactor Subcommittee

AGENCY: Department of Energy.

ACTION: Notice of Open Meeting.

SUMMARY: This notice announces an open meeting of the Secretary of Energy Advisory Board (SEAB), Small Modular Reactor Subcommittee (SMR). The Federal Advisory Committee Act (Pub. L. 92-463, 86 Stat. 770) requires public notice of this meeting be announced in the Federal Register.

DATES: Wednesday, May 30, 2012, 9:30 a.m.-12:00 p.m., 1:00 p.m.-3:30 p.m.

ADDRESSES: U.S. Department of Energy, 1000 Independence Avenue SW., Washington, DC 20585.

FOR FURTHER INFORMATION CONTACT: Renee Stone, Deputy Designated Federal Officer, U.S. Department of Energy, 1000 Independence Avenue SW., Washington, DC 20585; email: SMRCommittee@hq.doe.gov or Web site: http://www.nuclear.gov/smrsubcommittee/overview.html

SUPPLEMENTARY INFORMATION:

Purpose of the Board: The Board was reestablished to provide advice and recommendations to the Secretary on the Department's basic and applied research, economic and national security policy, educational issues, operational issues, and other activities as directed by the Secretary.

Background: The Subcommittee was established to provide recommendations on areas in which standards for safety, security, and nonproliferation should be developed for SMRs to enhance U.S. leadership in civil nuclear energy. In addition, to identify challenges, uncertainties and risks to commercialization and provide advice on policies and other approaches that may be appropriate to manage these risks and accelerate deployment in support of national goals.

Purpose of the Meeting: The purpose of this meeting is to hear from external stakeholders and to provide the subcommittee members with additional information.

Tentative Agenda: The meeting will start at 9:30 a.m., Wednesday, May 30, 2012. The tentative meeting agenda includes presentations from the National Nuclear Security Administration (NNSA), external stakeholders, and environmental groups.

Public Participation: The meeting is open to the public. Individuals who would like to attend must RSVP no later than 5:00 p.m., Friday, May 25, 2012, by email at: SMRCommittee@hq.doe.gov. Please provide your name, organization, citizenship, and contact information. Space is limited. Anyone attending the meeting will be required to present government issued identification. Individuals and representatives of organizations who would like to offer comments and suggestions may do so at the end of the meeting on Wednesday, May 30, 2012. Approximately 30 minutes will be reserved for public comments. Time allotted per speaker will depend on the number of individuals who wish to speak, but will not exceed five minutes. The Designated Federal Officer (or designee) is empowered to conduct the meeting in a fashion that will facilitate the orderly conduct of business. Those wishing to speak should register to do so beginning at 9:30 a.m. on Wednesday, May 30, 2012. Those not able to attend the meeting or have insufficient time to address the subcommittee, are invited to send a written statement to Renee Stone, U.S. Department of Energy 1000 Independence Avenue SW., Washington, DC 20585, or by email to: SMRCommittee@hq.doe.gov.

Dated: Issued in Washington, DC, on May 10, 2012.
LaTanya R. Butler,
Acting Deputy Committee Management Officer.

[FR Doc. 2012-11822 Filed 5-15-12; 8:45 am]

BILLING CODE 6450-01-P